DEPARTMENT OF ENERGY

Federal Energy Regulatory Commission

[Project No. 2548-056]

Northbrook Lyons Falls, LLC; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 2548-056.

c. Date Filed: May 31, 2024.

d. Applicant: Northbrook Lyons Falls, LLC (Northbrook).

e. Name of Project: Lyons Falls Hydroelectric Project (Lyons Falls Project or project).

f. Location: On the Black and Moose Rivers in Lewis County, New York.

g. Filed Pursuant to: Federal Power Act, 16 U.S.C. 791(a)-825(r).

h. Applicant Contact: Mr. Lewis Loon, General Manager, Operations and Maintenance—USA, Kruger Energy, 423 Brunswick Ave., Gardiner, ME 04345; telephone at (207) 203-3027; email at lewis.loon@kruger.com.

i. FERC Contact: Kelly Wolcott, Project Coordinator, Great Lakes Branch, Division of Hydropower Licensing; telephone at (202) 502-6480; email at kelly.wolcott@ferc.gov.

j. Cooperating Agencies: Federal, State, local, and Tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: July 30, 2024.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, MD 20852. All filings must clearly identify the project name and docket number on the first page: Lyons Falls Hydroelectric Project (P-2548-056).

m. The application is not ready for environmental analysis at this time.

n. Project Description: The project as currently licensed consists of the following three developments from upstream to downstream: the 1.05-megawatt (MW) Kosterville Development, the 2-MW Gouldtown Development, and the 11.2-MW Lyons Falls Development.

Project Facilities

Kosterville Development

The Kosterville Development consists of a concrete dam (Kosterville Dam) that includes: (1) a non-overflow section; (2) a 314-foot-long spillway with a crest elevation of 889.5 feet mean sea level (msl); (3) a non-overflow gated section with three 11-foot-long stoplog gates; and (4) an intake structure with three steel sluice gates and a trashrack with 2-inch clear bar spacing.

The dam creates an impoundment that has a surface area of 3 acres at the spillway crest elevation of 889.5 feet msl. From the impoundment, water flows through the intake structure to a bay that includes two horizontal Francis turbines. The turbines are connected to a 0.55-MW generator and a 0.50-MW generator that are located in a 50-foot-wide, 50-foot-long steel and concrete powerhouse adjacent to the turbine bay. Water is discharged from the turbines to the Moose River.

The minimum and maximum hydraulic capacities of the turbines are 150 and 540 cubic feet per second (cfs), respectively. The Kosterville Development's generators are connected to the regional electric grid by an approximately 0.25-mile-long, 2.3-kilovolt (kV) overhead generator lead line and a 2.2/24-kV step-up transformer.

The Kosterville Development's project recreation facilities include a portage route on the north side of the impoundment that includes a take-out approximately 80 feet upstream of Kosterville Dam and a put-in approximately 100 feet downstream of the dam.

Gouldtown Development

The Gouldtown Development consists of a concrete dam (Gouldtown Dam) that includes: (1) a 30-foot-long intake structure with a 10-foot-long, 10-foot-high gate and a 30-foot-long, 12-foot-high trashrack with 2-inch clear bar spacing; (2) a south dam section that includes: (a) a low-level outlet gate and a sluice gate; (b) an 84-foot-long gated section with eleven 5-foot-high steel gates; and (c) a 50.7-foot-long abutment; and (3) a north dam section that includes: (a) a non-overflow section with a low-level outlet gate and a sluice gate; (b) a 100-foot-long spillway with 3-foot-high flashboards that have a crest elevation of 855 feet msl; and (c) an abutment section. The dam abuts a 4-acre island in the Moose River, between the south and north sections of the dam.

The dam creates an impoundment that has a surface area of 10 acres at the flashboard crest elevation of 855 feet msl. From the impoundment, water flows through the intake structure to a 105-foot-long, 10-foot-diameter steel penstock that conveys water to a bay that includes a horizontal Francis turbine and a surge pipe. The turbine is connected to a 2-MW generator that is located in a 48-foot-wide, 38-foot-long concrete powerhouse adjacent to the turbine bay. Water is discharged from the turbine to the Moose River.

The Gouldtown Development creates the following bypassed reach segments: (1) an approximately 200-foot-long segment downstream of the south section of the dam; and (2) an approximately 1,000-foot-long segment downstream of the north section of the dam that discharges approximately 230 feet downstream of the powerhouse (north channel bypassed reach). Northbrook releases minimum flows to the north channel bypassed reach through a 1.25-foot-diameter pipe that is attached to the sluice gate of the north dam.

The minimum and maximum hydraulic capacities of the turbines are 160 and 726 cfs, respectively.

The Gouldtown Development's generator is connected to the regional electric grid by: (1) 2.3-kV generator lead lines; (2) a step-up transformer located in a substation; and (3) an approximately 1-mile-long, 23-kV overhead transmission line.

The Gouldtown Development's project recreation facilities include: (1) a portage route on the north side of the impoundment that includes a take-out approximately 200 feet upstream of Gouldtown Dam and a put-in approximately 800 feet downstream of the dam; and (2) a parking area adjacent to the intersection of Kosterville and Shibley Roads.

Lyons Falls Development

The Lyons Falls Development currently consists of a concrete dam (Lyons Falls Dam) that includes: (1) a west abutment; (2) an intake structure with three sluice gates equipped with an 89-foot-long trashrack with 2-inch clear bar spacing; (3) an approximately 73.3-foot-long non-overflow section with a low level outlet gate, a 3.8-foot-long, 6-foot-high sluice gate, and two 25-foot-long, 6-foot-high steel sluice gates; and (4) a 362-foot-long spillway with 2.2-foot-high flashboards that have a crest elevation of 806.5 feet msl.

The dam creates an impoundment that has a surface area of 130 acres at the flashboard crest elevation of 806.5 feet msl. From the impoundment, water currently flows through the west sluice gate of the intake structure to a 250-foot-long, 6-foot-diameter penstock and a 250-foot-long, 12-foot-diameter penstock, and through the east sluice gate of the intake structure to a 125-foot-long, 8-foot-diameter penstock. The two 250-foot-long penstocks currently convey water to two 1.2-MW horizontal turbine-generator units, a 1.25 MW horizontal turbine-generator unit, and a 0.9 MW horizontal turbine-generator unit located in a 47-foot-long, 110-foot-wide brick and concrete powerhouse for a total installed capacity of 4.55 MW. The 125-foot-long penstock currently conveys water to a 1.04-MW vertical turbine-generator unit located in a 30-foot-long, 30-foot-wide powerhouse.

Water is currently discharged from the turbines to the Black River. The Lyons Falls Development creates an approximately 300-foot-long bypassed reach.

The minimum and maximum hydraulic capacities of the turbines are currently 410 and 1,170 cfs, respectively.

The Lyons Falls Development's generators are currently connected to the regional electric grid by: (1) 2.3-kV generator lead lines; (2) two 2.3/23-kV step-up transformers; (3) two 23-kV overhead transmission lines; and (4) a 540-foot-long, 23-kV overhead transmission line.

The Commission approved a license amendment on March 30, 2016 (2016 Order), to increase the installed capacity of the Lyons Falls Development from 5.61 MW to 11.2 MW by replacing the powerhouses and intake facilities with new facilities, including two new 5.6-MW turbine-generators. Northbrook has not commenced construction of the new facilities. Commission staff issued a letter on May 8, 2024, granting Northbrook's request for an extension of time to start and complete construction by September 30, 2025 and September 30, 2027, respectively. In the license application, Northbrook states that it is still proposing to construct the new intake and powerhouse facilities.

The Lyons Falls Development's project recreation facilities include a portage route around the east side of the dam and a boat access site, picnic area, and parking area downstream of the dam.

Project Operation

The current license requires the licensee to operate the project in a run-of-river mode. Northbrook maintains the surface elevation of the Lyons Falls, Gouldtown, and Kosterville Developments' impoundments at 806.5 feet, 855 feet, and 889.5 feet msl, respectively. The current license requires the licensee to release a minimum flow of 5 cfs or inflow, whichever is less, from the Gouldtown Development to the north channel bypassed reach. The current license also requires the implementation of a recreation plan filed on July 20, 1987, and revised on July 28, 1988.

The average annual energy production of the project (i.e., Lyons Falls, Gouldtown, and Kosterville Developments) from 2019 through 2023, was 33,601 megawatt-hours.

The 2016 Order amended the license to include several additional conditions for the construction of the new intake and powerhouse facilities, including but not limited to: (1) preconstruction requirements, such as a stream flow and water level monitoring plan and invasive species management plan; and (2) conditions required by the New York Department of Environmental Conservation's water quality certification, such as: (a) restrictions on the timing of construction, impoundment drawdowns/dewatering activities, dredging, sediment disposal, placement of cofferdams, and erosion control measures during construction; and (b) run-of-river operation, water level fluctuation limits, minimum bypassed reach flows, seasonal installation of 1-inch trashrack overlays, a trashrack management plan, and downstream fish passage measures following construction.

Northbrook proposes to revise the project boundary around the impoundments to follow the normal maximum impoundment elevations and add/remove land that is occupied by or adjacent to project facilities, which would result in a net reduction of land and water in the project boundary from 202 acres under the current license to 196 acres under the proposed relicensing.

Northbrook proposes to continue operating the project in a run-of-river mode. Northbrook proposes to maintain the surface elevations of the impoundments within 6 inches of the flashboard crests or the spillway crests if flashboards are not in place. Northbrook also proposes to: (1) release a continuous minimum flow of 10 cfs or inflow, whichever is less, to the north channel bypassed reach of the Gouldtown Development; (2) install trashrack overlays with 1-inch clear bar spacing at each development from April 15 through October 15; (3) implement a stream flow and water level monitoring plan as required by the 2016 Order; (4) implement the Invasive Species Management Plan, Bat Management Plan, and Bald Eagle Management Plan filed as Appendices H, I, and J of Volume 1 of the license application, respectively; (5) release an aesthetic flow of 0.5 inch of spill over the dam/flashboard crest of each development from Memorial Day to Labor Day; (6) revise the Recreation Plan required under the current license; (7) construct a parking lot for up to 15 cars at the Kosterville Development; (8) develop a walking trail to the pool below the Gouldtown Development waterfall; (9) provide public access to the Kosterville Development from 8:00 a.m. to 7:00 p.m. on whitewater release days; (10) cease generation at the Kosterville and Gouldtown Developments and release all inflow from the spillways when the Moose River Project is releasing whitewater boating flows; and (11) install directional and safety signage at project recreation facilities.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-2548). For assistance, contact FERC at FERCOnlineSupport@ferc.gov, (866) 208-3676 (toll free), or (202) 502-8659 (TTY).

You may also register online at https://ferconline.ferc.gov/FERCOnline.aspx to be notified via email of new filings and issuances related to this or other pending projects. For assistance, contact FERC Online Support.

p. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

q. Procedural Schedule: The application will be processed according to the following preliminary schedule. Revisions to the schedule will be made as appropriate.

Issue Deficiency Letter and Request Additional Information—July 2024

Issue Scoping Document 1 for comments—September 2024

Request Additional Information (if necessary)—November 2024

Issue Acceptance Letter—November 2024

Issue Scoping Document 2 (if necessary)—November 2024

Issue Notice of Ready for Environmental Analysis—November 2024

r. Final amendments to the application must be filed with the Commission no later than 30 days from the issuance date of the notice of ready for environmental analysis.

Dated: June 14, 2024.
Debbie-Anne A. Reese,
Acting Secretary.

[FR Doc. 2024-13718 Filed 6-21-24; 8:45 am]

BILLING CODE 6717-01-P